FEDERAL MARITIME COMMISSION

46 CFR Part 540

[Docket No. 02-15]

Passenger Vessel Financial Responsibility

AGENCY: Federal Maritime Commission.

ACTION: Notice of proposed rulemaking; extension of comment period.

SUMMARY: Upon consideration of several requests, the Commission has determined to extend the comment period in this matter.

DATES: Comments are now due on April 8, 2003.

ADDRESSES: Address all comments concerning this proposed rule to: Bryant L. VanBrakle, Secretary, Federal Maritime Commission, 800 North Capitol Street, NW., Room 1046, Washington, DC 20573-0001, E-mail: secretary@fmc.gov.

FOR FURTHER INFORMATION CONTACT:

Sandra L. Kusumoto, Director, Bureau of Consumer Complaints and Licensing; Federal Maritime Commission, 202-523-5787; E-mail sandrak@fmc.gov.

or

Ronald D. Murphy, Commission Dispute Resolution Specialist And Deputy Director, Bureau of Consumer Complaints and Licensing; (202) 523-5787; E-mail: ronaldm@fmc.gov.

or

David R. Miles, Acting General Counsel, (202) 523-5740; E-mail: davidm@fmc.gov; Federal Maritime Commission, 800 North Capitol Street, NW., Washington, DC 20573-0001.

SUPPLEMENTARY INFORMATION: The Commission by Notice of Proposed Rulemaking published October 31, 2002, 67 FR 66352, proposed amendments to its passenger vessel regulations at 46 CFR part 540 that would eliminate the current ceiling on required performance coverage; adjust the amount of coverage required by providing for consideration of the obligations of credit card issuers; provide for the use of Alternative Dispute Resolution (“ADR”), including the Commission's ADR program, in resolving passenger performance claims; revise the application form; and make a number of technical adjustments to the performance and casualty rules.

Royal Caribbean Cruises, Ltd.; Norwegian Cruise Line; the Travel Industry Association of America; the Florida Ports Council; Crystal Cruises; the Port of San Diego Unified Port District; Cruise the West and its Members; Congressmen Don Young, Chairman and James L. Oberstar, Ranking Democratic Member, of the Committee on Transportation and Infrastructure of the U.S. House of Representatives; and Disney Cruise Line are seeking an extension of time, up to 90 days beyond the current due date of January 8, 2003, to file comments. In support of this request, they argue, inter alia, that an extension would give the industry time to adequately evaluate the NPRM and to obtain the cost data the Commission encouraged commenters to submit. In anticipation of receiving cost and other data relevant to this NPRM, the Commission has determined to grant the parties request and is extending the comment period to April 8, 2003.

By the Commission.
Bryant L. VanBrakle,
Secretary.

[FR Doc. 02-32645 Filed 12-26-02; 8:45 am]

BILLING CODE 6730-01-P